DEPARTMENT OF THE INTERIOR

Bureau of Land Management

[19X.LLWO320000.L13200000.PP0000; OMB Control Number 1004-0194]

Agency Information Collection Activities; Surface Management

AGENCY: Bureau of Land Management, Interior.

ACTION: Notice of information collection; request for comment.

SUMMARY: In accordance with the Paperwork Reduction Act of 1995, the Bureau of Land Management (BLM) is proposing to renew an information collection control number.

DATES: Interested persons are invited to submit comments on or before December 17, 2019.

ADDRESSES: Send your comments on this information collection request (ICR) by mail to Jean Sonneman, U.S. Department of the Interior, Bureau of Land Management, 1849 C Street NW, Room 2134LM, Washington, DC 20240; or by email to jsonneman@blm.gov. Please reference OMB Control Number 1004-0194 in the subject line of your comments.

FOR FURTHER INFORMATION CONTACT: To request additional information about this Information Collection Request (ICR), please contact Stuart Grange by email at sgrange@blm.gov, or by telephone at 202-912-7067. Persons who use a telecommunication device for the deaf may call the Federal Relay Service at 1-800-877-8339, to leave a message for the above person.

SUPPLEMENTARY INFORMATION: In accordance with the Paperwork Reduction Act of 1995, the BLM provides the general public and other Federal agencies with an opportunity to comment on new, proposed, revised, and continuing collections of information. This helps to assess the impact of the BLM's information collection requirements and minimize the public's reporting burden. It also helps the public understand the BLM's information collection requirements and provide the requested data in the desired format.

The BLM is soliciting comments on the proposed ICR that is described below. The BLM is especially interested in public comment addressing the following issues: (1) Is the collection necessary to the proper functions of the BLM; (2) Will this information be processed and used in a timely manner; (3) Is the estimate of burden accurate; (4) How might the BLM enhance the quality, utility, and clarity of the information to be collected; and (5) How might the BLM minimize the burden of this collection on the respondents, including through the use of information technology.

Comments that you submit in response to this notice are a matter of public record. The BLM will include or summarize each comment in our request to OMB to approve this ICR. Before including your address, phone number, email address, or other personal identifying information in your comment, you should be aware that your entire comment—including your personal identifying information—may be made publicly available at any time. While you can ask us in your comment to withhold your personal identifying information from public review, the BLM cannot guarantee that we will be able to do so.

The following information pertains to this request:

Abstract: This control number enables the BLM to determine whether operators and mining claimants are meeting their responsibility to prevent unnecessary or undue degradation while conducting exploration and mining activities on public lands under mining laws.

Title of Collection: Surface Management under the General Mining Law (43 CFR parts 3809).

OMB Control Number: 1004-0194.

Forms:

• 3809-1, Surface Management Surety Bond;

• 3809-2, Surface Management Personal Bond; and

• 3809-4, Bond Rider Extending Coverage of Bond to Assume Liabilities for Operations Conducted by Parties Other Than the Principal and;

• 3809-5, Notification of Change of Operator and Assumption of Past Liability.

Type of Review: Extension of a currently approved collection.

Description of Respondents: Operators and mining claimants.

Estimated Number of Annual Respondents: 1,495.

Estimated Number of Annual Responses: 1,495.

Estimated Completion Time per Response: Varies from the number of minutes/hours per response.

Total Estimated Number of Annual Burden Hours: 183,808.

Respondent's Obligation: Required to obtain a benefit.

Frequency of Collection: On occasion.

Total Estimated Annual Nonhour Burden Cost: $8,900 for notarizing Forms 3809-2 and 3809-4a.

The estimated annual burdens of this collection are itemized below:

A. Type of response | B. Number of responses | C. Hours per response | D. Total hours (Column B × Column C)
Initial or Extended Plan of Operations (3809.11) | 49 | 320 | 15,680
Data for EIS (3809.401(c)) | 5 | 4,960 | 24,800
Data for Standard EA (3809.401(c)) | 15 | 890 | 13,350
Data for Simple Exploration EA (3809.401(c)) | 29 | 320 | 9,820
Modification of Plan of Operations (3809.430 and 3809.431) | 107 | 320 | 34,240
Data for EIS (3809.432(a) and 3809.401(c)) | 2 | 4,960 | 9,920
Data for Standard EA (3809.432(a) and 3809.401(c)) | 35 | 890 | 31,150
Data for Simple Exploration EA (3809.432(a) and 3809.401(c)) | 70 | 320 | 22,400
Notice of Operations (3809.21) | 396 | 32 | 12,672
Modification of Notice of Operations (3809.330) | 167 | 32 | 5,344
Extension of Notice of Operations (3809.333) | 140 | 1 | 140
Surface Management Surety Bond, Form 3809-1 (3809.500) | 28 | 8 | 224
Surface Management Personal Bond, Form 3809-2, (3809.500) | 170 | 8 | 1,360
Bond Rider Extending Coverage of Bond, Form 3809-4 (3809.500) | 25 | 8 | 200
Surface Management Personal Bond Rider, Form 3809-4a (3809.500) | 69 | 8 | 552
Notification of Change of Operator and Assumption of Past Liability, Form 3809-5 (3809.116) | 52 | 8 | 416
Notice of State Demand Against Financial Guarantee (3809.573) | 1 | 8 | 8
Request for BLM Acceptance of Replacement Financial Instrument (3809.581) | 13 | 8 | 104
Request for Reduction in Financial Guarantee and/or BLM Approval of Adequacy of Reclamation | 78 | 8 | 624
Response to Notice of Forfeiture of Financial Guarantee (3809.596) | 13 | 8 | 104
Appeals to the State Director (3809.800) | 30 | 40 | 1200
Federal/State Agreements (3809.200) | 1 | 40 | 40
Totals | 1,495 |  | 183,808

An agency may not conduct or sponsor and a person is not required to respond to a collection of information unless it displays a currently valid OMB control number. The authority for this action is the Paperwork Reduction Act of 1995 (44 U.S.C. 3501 et seq).

Chandra Little,
Acting Information Collection Clearance Officer, Bureau of Land Management.

[FR Doc. 2019-22800 Filed 10-17-19; 8:45 am]

BILLING CODE 4310-HC-P